DEPARTMENT OF EDUCATION

Applications for New Awards; Teacher and School Leader Incentive Program

AGENCY: Office of Elementary and Secondary Education, Department of Education.

ACTION: Notice.

SUMMARY: The Department of Education (Department) is issuing a notice inviting applications for fiscal year (FY) 2020 for the Teacher and School Leader Incentive Program (TSL), Catalog of Federal Domestic Assistance (CFDA) number 84.374A. This notice relates to the approved information collection under OMB control number 1894-0006.

DATES: Applications Available: April 3, 2020.

Pre-Application Webinars: The Office of Elementary and Secondary Education intends to post pre-recorded informational webinars designed to provide technical assistance to interested applicants for TSL grants. These informational webinars will be available on the TSL web page shortly after this notice is published in the Federal Register at oese.ed.gov/offices/office-of-discretionary-grants-support-services/effective-educator-development-programs/teacher-and-school-leader-incentive-program/applicant-info-eligibility. A TSL Frequently Asked Questions document will also be published on the TSL program web page as soon as it is available at https://oese.ed.gov/offices/office-of-discretionary-grants-support-services/effective-educator-development-programs/teacher-and-school-leader-incentive-program/.

Deadline for Notice of Intent to Apply: May 4, 2020.

Deadline for Transmittal of Applications: June 2, 2020.

Deadline for Intergovernmental Review: August 3, 2020.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/FR-2019-02-13/pdf/2019-02206.pdf.

FOR FURTHER INFORMATION CONTACT: Patricia Searles, U.S. Department of Education, 400 Maryland Avenue SW., room 3C122, Washington, DC 20202-5960. Telephone: (202) 205-3869. Email: Patricia.Searles@ed.gov or TSL@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of TSL is to assist States, Local Educational Agencies (LEAs), and nonprofit organizations to develop, implement, improve, or expand comprehensive Performance-Based Compensation Systems (PBCS) ¹ or Human Capital Management Systems (HCMS) for teachers, principals, and other School Leaders (especially for teachers, principals, and other School Leaders in High-Need Schools who raise student academic achievement and close the achievement gap between high- and low-performing students). In addition, a portion of TSL funds may be used to study the effectiveness, fairness, quality, consistency, and reliability of PBCS or HCMS for teachers, principals, and other School Leaders (educators).

¹ Throughout this notice, all defined terms are denoted with capitals.

Background: TSL is authorized under section 2212 of the Elementary and Secondary Education Act of 1965, as amended by the Every Student Succeeds Act (ESEA).

The FY 2020 TSL competition is designed to support entities in implementing, improving, or expanding their HCMS, which by definition must include a PBCS, or implementing, improving, or expanding only a PBCS and establishes an absolute priority consistent with this purpose. TSL is also intended to primarily serve educators in High-Need Schools who raise student academic achievement and close the achievement gap between high- and low-performing students, although the program may also fund services for educators serving in high-need subject areas (though not necessarily in High-Need Schools), as determined by the LEA or the State.

In 2017, all 50 States, the District of Columbia, and the Commonwealth of Puerto Rico submitted ESEA Consolidated State Plans that describe their efforts to ensure equitable access to excellent educators. These State plans describe how the State would ensure that low-income and minority children in Title I, Part A schools are not taught by inexperienced, ineffective, or out-of-field teachers at higher rates than other children. In addition, many States and LEAs have worked to create and improve their comprehensive HCMS, and LEAs have invested in high-quality educator evaluation and support systems in order to improve recruitment efforts, provide educators with meaningful feedback and targeted professional development, and use information on educator performance to inform key school- and district-level decisions. While an increasing number of LEAs are well equipped to make human capital decisions that both support educators and improve student outcomes, additional work is needed to ensure that these educator evaluation and support systems are fair, reliable, and credible; conducive to enhancing educator growth and advancement; likely to support improved student outcomes; and seamlessly integrated into school- and district-level human capital processes. Thus, through the two absolute priorities listed in this notice, the Department seeks to ensure that this competition supports States and LEAs in their efforts to implement goals and objectives in State plans as well as lessons learned from close to two decades of investment and research in HCMS and PBCS.

In addition to the absolute priority reinforcing the need to serve educators primarily in High-Need Schools and areas, this notice includes a competitive preference priority for projects that would be carried out in areas that overlap with a Qualified Opportunity Zone (QOZ). Public Law (Pub. L.) 115-97, known as the Tax Cuts and Jobs Act, authorized the designation of QOZs to promote economic development and job creation in distressed communities through preferential tax treatment for investors. A list of QOZs is available at www.cdfifund.gov/Pages/Opportunity-Zones.aspx; applicants may also determine whether a particular area overlaps with a QOZ using the National Center of Education Statistics' map located at https://nces.ed.gov/programs/maped/LocaleLookup/. To receive competitive preference points under this priority, applicants must provide the Department with the census tract number of the QOZ they plan to serve and describe the services they will provide. For the purposes of this competition, applicants should consider the area where schools being served by TSL funds are located.

In order to support different LEAs in developing and implementing comprehensive HCMS designed to ensure all students have equitable access to high-quality instruction, this notice also contains a competitive preference priority for new potential grantees. Under ESEA section 2212(b)(3), an LEA may only receive a TSL grant twice. In furtherance of this goal to limit the number of TSL grants an LEA may receive, the competitive preference priority encourages new potential grantees to apply for a TSL grant by awarding additional points for those applicants who either have never received a TSL or Teacher Incentive Fund (TIF) grant, or who have not had an active TSL or TIF grant in the past five years.

Priorities: This notice contains two absolute priorities and two competitive preference priorities. In accordance with 34 CFR 75.105(b)(2)(v), the two absolute priorities are from ESEA sections 2212(e)(1) and (d)(1), respectively. In accordance with 34 CFR 75.105(b)(2)(ii), Competitive Preference Priority 1 is from the notice of final priority published in the Federal Register on November 27, 2019 (84 FR 65300) (Opportunity Zones NFP); and Competitive Preference Priority 2 is from the Secretary's Final Administrative Priorities for Discretionary Grant Programs published in the Federal Register on March 9, 2020 (85 FR 13640) (Administrative Priorities).

Absolute Priority: For FY 2020 and any subsequent year in which we make awards from the list of unfunded applications from this competition, these priorities are absolute priorities. Under 34 CFR 75.105(c)(3), we consider only applications that meet both absolute priorities.

These priorities are:

Absolute Priority 1: Human Capital Management Systems (HCMS) or Performance Based Compensation Systems (PBCS).

Under this priority, eligible applicants must propose a project to develop, implement, improve, or expand, in collaboration with teachers, principals, other School Leaders, and members of the public, a PBCS or HCMS.

Note: Under section 2212(c)(4) of the ESEA, applicants must describe how the eligible entity will develop and implement a fair, rigorous, valid, reliable, and objective process to evaluate educator performance under the system that is based in part on measures of student academic achievement, including the baseline performance against which evaluations of improved performance will be made. In responding to this priority, applicants are encouraged to describe how their project to develop, implement, improve, or expand a PBCS or HCMS will address this application requirement. In addition, applicants that propose to use grant funds, under ESEA section 2212(e)(2)(A), to develop or improve an evaluation and support system as part of an HCMS, in responding to this priority, should describe how such system (i) reflects clear and fair measures of educator performance, based in part on demonstrated improvement in student academic achievement; and (ii) provides educators with ongoing, differentiated, targeted, and personalized support and feedback for improvement, including professional development opportunities designed to increase effectiveness.

Absolute Priority 2: High-Need Schools.

Under this priority, eligible applicants must concentrate the activities proposed to be assisted under the grant on teachers, principals, or other School Leaders serving in High-Need Schools.²

² For more information on the term “high-need schools” as used in this notice and, in particular, Absolute Priority 2, see the definition of “high-need schools” in the Definitions section of this notice.

Competitive Preference Priorities: For FY 2020 and any subsequent year in which we make awards from the list of unfunded applications from this competition, these priorities are competitive preference priorities. Under 34 CFR 75.105(c)(2)(i), we award up to 10 points to an application, depending on how well the application meets Competitive Preference Priority 1; and we award an additional 5 points to an application that meets paragraph (a)(i), or an additional 2 points to an application that meets paragraph (a)(ii), of Competitive Preference Priority 2. An application may be awarded a maximum of 15 additional points under the competitive preference priorities.

These priorities are:

Competitive Preference Priority 1—Spurring Investment in Qualified Opportunity Zones (up to 10 points).

Under this priority, an applicant must demonstrate that the area in which the applicant proposes to provide services overlaps with a Qualified Opportunity Zone, as designated by the Secretary of the Treasury under section 1400Z-1 of the Internal Revenue Code (IRC). An applicant must—

(i) Provide the census tract number of the Qualified Opportunity Zone(s) in which it proposes to provide services; and

(ii) Describe how the applicant will provide services in the Qualified Opportunity Zone(s).

Competitive Preference Priority 2—Applications from New Potential Grantees (0, 2, or 5 points).

(a) Under this priority, an applicant must demonstrate one of the following:

(i) The applicant has never received a grant, including through membership in a group application submitted in accordance with 34 CFR 75.127-75.129, under the program from which it seeks funds (0 or 5 points); or

(ii) The applicant has not had an active discretionary grant under the program from which it seeks funds, including through membership in a group application submitted in accordance with 34 CFR 75.127-75.129, in the five years before the deadline date for submission of applications under the program. (0 or 2 points)

(b) For the purpose of this priority, a grant or contract is active until the end of the grant's or contract's project or funding period, including any extensions of those periods that extend the grantee's or contractor's authority to obligate funds.

Note: For purposes of this priority, “the program” includes both TIF and TSL programs because they are substantially the same.

Application Requirements: For FY 2020 and any subsequent year in which we make awards from the list of unfunded applications from this competition, the following application requirements from ESEA section 2212(c) apply.

Each eligible applicant desiring a grant under this program must submit an application that contains—

(i) A description of the PBCS or HCMS that the eligible entity proposes to develop, implement, improve, or expand through the grant;

(ii) A description of the most significant gaps or insufficiencies in student access to effective educators in High-Need Schools, including gaps or inequities in how effective educators are distributed across the LEA, as identified using factors such as data on school resources, staffing patterns, school environment, educator support systems, and other school-level factors;

(iii) A description and evidence of the support and commitment from educators, which may include charter School Leaders, in the school (including organizations representing educators), the community, and the LEA to the activities proposed under the grant;

(iv) A description of how the eligible entity will develop and implement a fair, rigorous, valid, reliable, and objective process to evaluate educator performance, under the system that is based in part on measures of student academic achievement, including the baseline performance against which evaluations of improved performance will be made;

(v) A description of the LEAs or schools to be served under the grant, including student academic achievement, demographic, and socioeconomic information;

(vi) A description of the effectiveness of educators in the LEA and the schools to be served under the grant and the extent to which the system will increase the effectiveness of educators in such schools;

(vii) A description of how the eligible entity will use grant funds under this subpart in each year of the grant, including a timeline for implementation of such activities;

(viii) A description of how the eligible entity will continue the activities assisted under the grant after the grant period ends;

(ix) A description of the State, local, or other public or private funds that will be used to supplement the grant, including funds under Title II, part A of the ESEA, and sustain the activities assisted under the grant after the end of the grant period;

(x) A description of the rationale for the project; how the proposed activities are Evidence-Based; and, if applicable, the prior experience of the eligible entity in developing and implementing such activities; and

(xi) A description of how grant activities will be evaluated, monitored, and publicly reported.

Definitions: The definitions of “High-Need School,” “Human Capital Management System,” and “Performance-Based Compensation System” are from section 2211 of the ESEA. The definitions of “Evidence-Based,” and “School Leader” are from section 8101 of the ESEA. The definitions of “Demonstrates a Rationale,” “Logic Model,” “Project Component,” and “Relevant Outcome” are from 34 CFR 77.1. These definitions apply to the FY 2020 grant competition and any subsequent year in which we make awards from the list of unfunded applications from this competition.

Demonstrates a rationale means a key project component included in the project's logic model is informed by research or evaluation findings that suggest the project component is likely to improve relevant outcomes.

Evidence-based, when used with respect to a State, LEA, or school activity, means an activity, strategy, or intervention that—

(i) Demonstrates a rationale based on high-quality research findings or positive evaluation that such activity, strategy, or intervention is likely to improve student outcomes or other relevant outcomes; and

(ii) Includes ongoing efforts to examine the effects of such activity, strategy, or intervention.

High-Need School means a public elementary school or secondary school that is located in an area in which the percentage of students from families with incomes below the poverty line is 30 percent or more.

For purposes of this competition, the term “High-Need School” is interpreted to mean a school with 50 percent or more of its enrollment from low-income families, based on eligibility for free or reduced price lunch subsidies under the Richard B. Russell National School Lunch Act, or other poverty measures that LEAs use consistent with ESEA section 1113(a)(5) (20 U.S.C. 6313(a)(5)).³

³ The definition of “poverty line” in ESEA section 8101(41) requires the Department to use poverty line data gathered by the U.S. Census Bureau. However, the Department has determined that the school-level poverty-line data required by the definition of “high-need school” are unavailable; the U.S. Census Bureau reports these data only by LEA. As such, to ensure that awards made under this competition still focus on schools that are high-poverty, the Secretary interprets “high-need school” by using the same poverty measure applicable to the definition of a “high-need school” for the past three TIF competitions and the first TSL competition. In prior competitions, a “high-need school” is a school with 50 percent or more of its enrollment from low-income families, based on eligibility for free or reduced price lunch subsidies under the Richard B. Russell National School Lunch Act, or other poverty measures that LEAs use consistent with ESEA section 1113(a)(5) (20 U.S.C. 6313(a)(5)). Since the income of a family below the poverty line is much lower than the income a family needs to enable its children to be eligible for free or reduced-price lunch subsidies under the Richard B. Russell National School Lunch Act (the poverty measure used in all prior TIF and TSL competitions), we believe that use of the prior poverty measure to determine which schools are high-need is also a reasonable approach to implementing congressional intent for TSL.

Human Capital Management System (HCMS) means a system—

(i) By which an LEA makes and implements human capital decisions, such as decisions on preparation, recruitment, hiring, placement, retention, dismissal, compensation, professional development, tenure, and promotion; and

(ii) That includes a performance-based compensation system.

Logic Model (also referred to as a theory of action) means a framework that identifies key project components of the proposed project (i.e., the active “ingredients” that are hypothesized to be critical to achieving the relevant outcomes) and describes the theoretical and operational relationships among the key project components and relevant outcomes.

Performance-Based Compensation System (PBCS) means a system of compensation for teachers, principals, or other School Leaders—

(i) That differentiates levels of compensation based in part on measurable increases in student academic achievement; and

(ii) Which may include—

(A) Differentiated levels of compensation, which may include bonus pay, on the basis of the employment responsibilities and success of effective teachers, principals, or other School Leaders in hard-to-staff schools or high-need subject areas; and

(B) Recognition of the skills and knowledge of teachers, principals, or other School Leaders as demonstrated through—

(I) Successful fulfillment of additional responsibilities or job functions, such as teacher leadership roles; and

(II) Evidence of professional achievement and mastery of content knowledge and superior teaching and leadership skills.

Project Component means an activity, strategy, intervention, process, product, practice, or policy included in a project. Evidence may pertain to an individual project component or to a combination of project components (e.g., training teachers on instructional practices for English learners and follow-on coaching for these teachers).

Relevant Outcome means the student outcome(s) or other outcome(s) the key project component is designed to improve, consistent with the specific goals of the program.

School Leader means a principal, assistant principal, or other individual who is—

(i) An employee or officer of an elementary school or secondary school, LEA, or other entity operating an elementary school or secondary school; and

(ii) Responsible for the daily instructional leadership and managerial operations in the elementary school or secondary school building.

Program Authority: Sections 2211-2213 of the ESEA.

Applicable Regulations: (a) The Education Department General Administrative Regulations in 34 CFR parts 75, 77, 79, 81, 82, 84, 86, 97, 98, and 99. (b) The Office of Management and Budget Guidelines to Agencies on Governmentwide Debarment and Suspension (Non-procurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Opportunity Zones NFP. (e) The Administrative Priorities.

Note: The regulations in 34 CFR part 86 apply to IHEs only.

II. Award Information

Type of Award: Discretionary grants.

Estimated Available Funds: $65,794,850 for new awards.

Estimated Range of Awards: $500,000 to $10 million.

Note: The Department estimates a wide range of awards, given the potentially large differences in the scope of funded projects, including the size and number of participating LEAs.

Estimated Average Size of Awards: $6,579,485.

Estimated Number of Awards: 8-10.

Note: The Department is not bound by any estimates in this notice.

Project Period: Up to 36 months.

III. Eligibility Information

1. Eligible Applicants:

(a) An LEA, including a charter school that is an LEA, or a consortium of LEAs; ⁴

⁴ Consistent with ESEA section 2212(b)(3), an LEA may receive a TSL grant (whether individually or as part of an eligible consortium or partnership) only twice.

(b) A State educational agency (SEA) or other State agency designated by the Chief Executive of a State to participate;

(c) The Bureau of Indian Education; or

(d) A partnership ⁵ consisting of—

⁵ See Id.

(i) One or more agencies described in paragraph (a), (b), or (c); and

(ii) At least one nonprofit organization as defined in 2 CFR 200.70 or at least one for-profit entity.

Note: The Secretary considers all schools funded by the Department of Interior's Bureau of Indian Education to be LEAs.

Applicants that are nonprofit organizations, under 34 CFR 75.51, may demonstrate their nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching:

Under section 2212(f) of the ESEA, each grant recipient must provide from non-Federal sources an amount equal to 50 percent of the amount of the grant (which may be provided in cash or in kind), to carry out the activities supported by the grant. Applicants and grantees should budget relative to each annual award of TSL grant funds. Applicants are strongly encouraged to take this requirement into account when requesting Federal funds and limit their requests appropriately. Applicants should verify that their budgets reflect both the requested Federal award amount and the matching contribution with appropriate cost allocations. The Secretary does not, as a matter of policy, anticipate waiving these requirements, given the importance of matching funds to the long-term success of the project.

b. Supplement-Not-Supplant: This program involves supplement-not-supplant funding requirements. In accordance with section 2212(g) of the ESEA, funds made available under this program must be used to supplement, and not supplant, other Federal or State funds that would otherwise be expended to carry out activities under this program. The Secretary considers all schools funded by the Department of Interior's Bureau of Indian Education to be LEAs, and the funds that these schools receive from the Department of Interior's annual appropriation to be neither Federal nor State funds. Further, the prohibition against supplanting also means that grantees seeking to charge indirect costs to TSL funds will need to use their negotiated restricted indirect cost rates. See 34 CFR 75.563 for more information.

3. Subgrantees: Under 34 CFR 75.708(b) and (c), a grantee under this competition may award subgrants to directly carry out project activities described in its application to the following types of entities: LEAs, SEAs, nonprofit organizations, or for-profit organizations. The grantee may award subgrants to entities it has identified in an approved application.

4. Renewal: Under section 2212(b)(2) of the ESEA, the Secretary may renew a grant awarded under this section for up to two additional years if the grantee demonstrates to the Secretary that the grantee is effectively using funds. Such renewal may include allowing the grantee to scale up or replicate the successful program.

Note: During the third year of the project period for grants awarded under this competition, if the Department exercises the option to offer an opportunity for renewals, the Department will provide grantees with information on the renewal process. This additional funding is intended not only to support continuation of approved project activities, but also to encourage scaling, replication, and sustainability efforts and strategies. In deciding whether to award a two-year renewal award, we intend to review performance data submitted in regularly required reporting, as well as potentially request narrative information to be assessed using selection criteria from 34 CFR 75.210.

IV. Application and Submission Information

1. Application Submission Instructions: Applicants are required to follow the Common Instructions for Applications to the Department of Education Discretionary Grant Programs, published in the Federal Register on February 13, 2019 (84 FR 3768) and available at www.govinfo.gov/content/pkg/FR-2019-02-13/pdf/2019-02206.pdf, which contains requirements and information on how to submit an application.

2. Submission of Proprietary Information: Given the types of projects that may be proposed in applications for TSL, an application may include business information that the applicant considers proprietary. In 34 CFR 5.11, we define “business information” and describe the process we use in determining whether any of that information is proprietary and, thus, protected from disclosure under Exemption 4 of the Freedom Act (5 U.S.C. 552, as amended). Because we plan to make successful applications available to the public, you may wish to request confidentiality of business information. Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this program.

4. Funding Restrictions: We reference regulations outlining funding restrictions in the Applicable Regulations section of this notice.

5. Recommended Page Limit: The application narrative is where you, the applicant, address the selection criteria that reviewers use to evaluate your application. We recommend that you (1) limit the application narrative to no more than 40 pages and (2) use the following standards:

• A “page” is 8.5” x 11”, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Calibri, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to review grant applications more efficiently if we know the approximate number of applicants who intend to apply. Therefore, we strongly encourage each potential applicant to notify us of the applicant's intent to submit an application. To do so, please email TSL@ed.gov with the subject line “Intent to Apply,” and include the applicant's name and contact person's name and email address by May 4, 2020. Applicants that do not submit a notice of intent to apply may still apply for funding; applicants that do submit a notice of intent to apply are not bound to apply or bound by the information provided.

V. Application Review Information

1. Selection Criteria: The following selection criteria for this competition are from 34 CFR 75.210. The maximum score for all of the selection criteria is 100 points. The maximum score for each criterion is included in parentheses following its title.

(a) Need for Project (25 points)

The Secretary considers the need for the proposed project. In determining evidence of the need for the proposed project, the Secretary considers the following factors:

(i) The extent to which specific gaps or weaknesses in services, infrastructure, or opportunities have been identified and will be addressed by the proposed project, including the nature and magnitude of those gaps or weaknesses.

(ii) The extent to which the proposed project will integrate with or build on similar or related efforts to improve Relevant Outcomes (as defined in 34 CFR 77.1(c)) using existing funding streams from other programs or policies supported by community, State, and Federal resources.

(iii) The extent to which the proposed project is part of a comprehensive effort to improve teaching and learning and support rigorous academic standards for students.

(iv) The extent to which the design of the proposed project is appropriate to, and will successfully address, the needs of the target population or other identified needs.

(b) Quality of the Project Design (30 points)

The Secretary considers the quality of the design of the proposed project. In determining the quality of the design of the proposed project, the Secretary considers the following factors:

(i) The extent to which the proposed project Demonstrates a Rationale (as defined in 34 CFR 77.1(c)).

(ii) The extent to which the methods of evaluation will provide performance feedback and permit periodic assessment of progress towards achieving intended outcomes.

(c) Quality of the Management Plan (20 points)

The Secretary considers the quality of the management plan for the proposed project. In determining the quality of the management plan for the proposed project, the Secretary considers the adequacy of the management plan to achieve the objectives of the proposed project on time and within budget, including clearly defined responsibilities, timelines, and milestones for accomplishing project tasks.

(d) Adequacy of Resources (25 points)

The Secretary considers the adequacy of resources for the proposed project. In determining the adequacy of resources for the proposed project, the Secretary considers the following factors:

(i) The likelihood that the proposed project will result in system change or improvement.

(ii) The extent to which the proposed project is likely to build local capacity to provide, improve, or expand serves that address the needs of the target population.

(iii) The extent to which the applicant demonstrates that it has the resources to operate the project beyond the length of the grant, including a multi-year financial and operating model, and accompanying plan; the demonstrated commitment of any partners; evidence of broad support from stakeholders (e.g., SEAs, teachers unions) critical to the project's long-term success; or more than one of these types of evidence.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

Note: In addition, under 34 CFR 75.591, all TSL grantees must cooperate in any evaluation of the program conducted by the Department.

5. Performance Measures: The goal of TSL is to support educators, particularly those in High-Need Schools, to raise student academic achievement and close the achievement gap between high- and low-performing students. We have established performance measures for this program: (a) The percentage of educators in all schools who earned performance-based compensation; (b) the percentage of educators in all High-Need Schools who earned performance-based compensation; (c) the gap between the retention rate of educators receiving performance-based compensation and the average retention rate of educators in each High-Need Schools whose educators participate in the project; (d) the number of school districts participating in a TSL grant that use educator evaluation and support systems to inform the following human capital decisions: recruitment; hiring; placement; retention; dismissal; professional development; tenure; promotion; or all of the above; (e) the number of High-Need Schools within districts participating in a TSL grant that use educator evaluation and support systems to inform the following human capital decisions: recruitment; hiring; placement; retention; dismissal; professional development; tenure; promotion; or all of the above; (f) the percentage of performance-based compensation paid to educators with State, local, or other non-TIF Federal resources; (g) the percentage of teachers and principals who receive the highest effectiveness rating; and (8) the percentage of teachers and principals in High-Need Schools who receive the highest effectiveness rating.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2020-07026 Filed 4-2-20; 8:45 am]

BILLING CODE 4000-01-P